DEPARTMENT OF VETERANS AFFAIRS

[OMB Control No. 2900-0804]

Agency Information Collection Activity: Fiduciary Bond (38 CFR Part 13)

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Comments must be received on or before August 18, 2025.

ADDRESSES: Comments must be submitted through www.regulations.gov.

FOR FURTHER INFORMATION CONTACT:

Program-Specific information: Kendra.McCleave, 202-461-9568, kendra.mccleave@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Fiduciary Bond (38 CFR part 13).

OMB Control Number: 2900-0804. https://www.reginfo.gov/public/do/PRASearch (Once at this link, you can enter the OMB Control Number to find the historical versions of this Information Collection).

Type of Review: Revision of a currently approved collection.

Abstract: The Department of Veterans Affairs (VA), through its Veterans Benefits Administration (VBA), administers the Fiduciary Program. The Fiduciary Program provides oversight to VA beneficiaries who, because of injury, disease, the infirmities of advanced age, or minority, cannot manage their VA benefits. Congress authorized the VA to require a prospective fiduciary to obtain a surety bond as part of the certification process. The VA requires fiduciaries to submit proof of adequate bonding with annual accounting to facilitate its oversight responsibility as mandated. Furthermore, this change reduces the number of respondents because fewer individuals would be required to send VA proof of bondage. OMB approves the information collection requirement in § 13.230 and has been assigned OMB # 2900-0804. There would be no change in the need for information nor the use of information collected for OMB #2900-0804. The information is needed to facilitate VA's oversight regarding the funds under management protection requirements prescribed in § 13.230.

Affected Public: Individuals and households.

Estimated Annual Burden: 167 hours.

Estimated Average Burden per Respondent: 1 minute.

Frequency of Response: On occasion.

Estimated Number of Respondents: 10,000.

Authority: 44 U.S.C. 3501 et seq.

Lanea Haynes,
Acting, VA PRA Clearance Officer, (Alt) Office of Enterprise and Integration/Data Governance Analytics, Department of Veterans Affairs.

[FR Doc. 2025-11176 Filed 6-17-25; 8:45 am]

BILLING CODE 8320-01-P